DEPARTMENT OF THE INTERIOR

Fish and Wildlife Service

Notice of Permit Application and Availability of a Draft Safe Harbor Agreement for The Nature Conservancy (Aravaipa Property)

AGENCY: Fish and Wildlife Service, Interior.

ACTION: Notice of availability and 30-day public comment period.

SUMMARY: The Nature Conservancy (Applicant or TNC) has applied to the U.S. Fish and Wildlife Service (Service) for an enhancement of survival permit pursuant to Section 10(a)(1)(A) of the Endangered Species Act (Act). The Applicant has been assigned permit number TE-099809-0. The requested permit, which is for a period of 20 years, would authorize take of the endangered Gila topminnow (Poeciliopsis occidentalis occidentalis) and desert pupfish (Cyprinodon macularius) as a result of ongoing watershed improvement activities on TNC-owned property within the Aravaipa watershed identified in the application, Safe Harbor Agreement (TNC Agreement), and associated documents in Graham and Pinal counties, Arizona. Implementation of the TNC Agreement will reestablish Gila topminnow and desert pupfish in three south rim tributaries of Aravaipa Creek.

DATES: To be considered, written comments must be received on or before March 28, 2005.

ADDRESSES: Persons wishing to review the application, TNC Agreement, and “Low Effect” determination may obtain copies by writing to the Regional Director, U.S. Fish and Wildlife Service, P.O. Box 1306, Room 4102, Albuquerque, New Mexico 87103, or by contacting the Field Supervisor, Arizona Ecological Services Field Office, 2321 West Royal Palm Road, Suite 103, Phoenix, Arizona 85021-4951; phone: (602) 242-0210. Documents relating to the application will be available for public inspection by written request, by appointment only, during normal business hours (8 a.m. to 4:30 p.m.) at the U.S. Fish and Wildlife Service, Arizona Ecological Services Field Office, Phoenix, Arizona.

Written data or comments concerning the application and TNC Agreement should be submitted to the Field Supervisor, U.S. Fish and Wildlife Service, Arizona Ecological Services Field Office, 2321 West Royal Palm Road, Suite 103, Phoenix, Arizona 85021-4951. Please refer to permit number TE-099809-0 (TNC) when submitting comments.

FOR FURTHER INFORMATION CONTACT: Marty Tuegel at the U.S. Fish and Wildlife Service, Arizona Ecological Services Field Office, 201 N. Bonita Avenue, Suite 141, Tucson, Arizona 85745; phone: (520) 670-6150 x232.

SUPPLEMENTARY INFORMATION: Background: The Applicant plans to reestablish populations of Gila topminnow and desert pupfish (covered species) on its properties within the approximately 537 mi² (14,000 km²) Aravaipa watershed, Graham and Pinal counties, Arizona. Gila topminnow and desert pupfish are native to the Gila River basin. Based upon extensive fish sampling within the watershed, neither species is known to be present in the watershed. The Applicant, in cooperation with the Service, has prepared the TNC Agreement to provide a conservation benefit to, and allow for take of, Gila topminnow and desert pupfish.

Based upon guidance in the Service's June 17, 1999, Final Safe Harbor Policy, if an agreement and its associated permit are not expected to individually or cumulatively have a significant impact on the quality of the human environment or other natural resources, the agreement/permit may be categorically excluded from undergoing National Environmental Policy Act review. The TNC Agreement qualifies as a “Low Effect” agreement, thus, this action is a categorical exclusion. The “Low Effect” determination for the TNC Agreement is also available for public comment. This notice is provided pursuant to Section 10(c) of the Act and National Environmental Policy Act regulations (40 CFR 1506.6).

The TNC Agreement as currently written is expected to provide a net conservation benefit to the Gila topminnow and desert pupfish. The TNC Agreement and its associated permit will also provide protection to the Applicant against further regulation under the Endangered Species Act for its ongoing private land management activities in not only areas where populations of covered species are reestablished, but also in habitat the covered species disperse into, as a result of implementation of the TNC Agreement.

Section 9 of the Act prohibits the “taking” of threatened or endangered species. However, the Service, under limited circumstances, may issue permits to take threatened and endangered wildlife species incidental to, and not the purpose of, otherwise lawful activities. Regulations governing permits for endangered and threatened species are at 50 CFR 17.22 and 50 CFR 17.32, respectively.

Joy E. Nicholopoulos,
Acting Regional Director, Southwest Region, Albuquerque, New Mexico.

[FR Doc. 05-3479 Filed 2-23-05; 8:45 am]

BILLING CODE 4510-55-U